DEPARTMENT OF EDUCATION

National Advisory Council on Indian Education (NACIE) Meeting

AGENCY: U.S. Department of Education.

ACTION: Notice of a Closed Meeting.

SUMMARY: This notice sets forth the schedule and proposed agenda of an upcoming closed meeting of the National Advisory Council on Indian Education (the Council) and is intended to notify the general public of the meeting. This notice also describes the functions of the Council. Notice of the Council's meetings is required under Section 10(a)(2) of the Federal Advisory Committee Act.

Date and Time: May 18, 2011; May 18, 2011—2 p.m.-5 p.m. Eastern Daylight Savings Time

Location: The closed meeting will be conducted via conference call with NACIE members.

SUPPLEMENTARY INFORMATION: The National Advisory Council on Indian Education is authorized by Section 7141 of the Elementary and Secondary Education Act. The Council is established within the Department of Education to advise the Secretary of Education on the funding and administration (including the development of regulations, and administrative policies and practices) of any program over which the Secretary has jurisdiction and includes Indian children or adults as participants or programs that may benefit Indian children or adults, including any program established under Title VII, Part A of the Elementary and Secondary Education Act. The Council submits to the Congress, not later than June 30 of each year, a report on the activities of the Council that includes recommendations the Council considers appropriate for the improvement of Federal education programs that include Indian children or adults as participants or that may benefit Indian children or adults, and recommendations concerning the funding of any such program.

One of the Council's responsibilities is to develop and provide recommendations to the Secretary of Education on the funding and administration (including the development of regulations, and administrative policies and practices) of any program over which the Secretary has jurisdiction that can benefit Indian children or adults participating in any program which could benefit Indian children. The purpose of this closed meeting is to convene the Council to review, advise, and provide recommendations to the Secretary on the procurement of services to accomplish this responsibility. Council members will discuss contract options and costs during the closed meeting. The meeting must be conducted in closed session because public discussion of procurement information would disclose independent government cost estimates and contracting options, adversely impacting the confidentiality of the contracting process and is therefore protected by exemption 9(B) of section 552b(c) of Title 5 U.S.C.

FOR FURTHER INFORMATION CONTACT: Jenelle Leonard, Acting Director/Designated Federal Official, Office of Indian Education, U.S. Department of Education, 400 Maryland Avenue, SW., Washington, DC 20202. Telephone: 202-205-2161. Fax: 202-205-5870.

A report of the activities of the closed session and related matters that are informative to the public and consistent with the policy of section 5 U.S.C. 552b(c) will be available to the public within 21 days of the meeting. Records are kept of all Council proceedings and are available for public inspection at the at the Office of Indian Education, United States Department of Education, 400 Maryland Avenue, SW., Washington, DC 20202. Monday-Friday, 8:30 a.m.-5 p.m. Eastern Daylight Time.

Electronic Access to This Document: You may view this document, as well as all other documents of this Department published in the Federal Register, in text or Adobe Portable Document Format (PDF) on the Internet at the following site: http://www.ed.gov/news/fedregister/index.html.

To use PDF you must have Adobe Acrobat Reader, which is available free at this site. If you have questions about using PDF, call the U.S. Government Printing Office (GPO), toll free at 1-866-512-1830; or in the Washington, DC, area at (202) 512-0000.

Note: The official version of this document is the document published in the Federal Register. Free Internet access to the official edition of the Federal Register and the Code of Federal Regulations is available on GPO Access at: http://www.gpoaccess.gov/nara/index.html.

Thelma Meléndez de Santa Ana,
Assistant Secretary, Office of Elementary and Secondary Education.

[FR Doc. 2011-10720 Filed 5-2-11; 8:45 am]

BILLING CODE 4000-01-P